DEPARTMENT OF ENERGY

Federal Energy Regulatory Commission

Combined Notice of Filings #1

Take notice that the Commission received the following electric corporate filings:

Docket Numbers: EC12-98-000.

Applicants: Erie Wind, LLC.

Description: Application for Authorization under Section 203 of the Federal Power Act and Request for Waivers, Confidential Treatment, Expedited Action and Shortened Comment Period of Erie Wind, LLC.

Filed Date: 5/9/12.

Accession Number: 20120509-5096.

Comments Due: 5 p.m. ET 5/30/12.

Take notice that the Commission received the following electric rate filings:

Docket Numbers: ER12-938-000.

Applicants: Pacific Gas and Electric Company.

Description: Compliance Refund Report for CCSF 36th Quarterly Filing to be effective N/A.

Filed Date: 5/9/12.

Accession Number: 20120509-5113.

Comments Due: 5 p.m. ET 5/30/12.

Docket Numbers: ER12-1753-000.

Applicants: Wyoming Colorado Intertie, LLC.

Description: Wyoming Wind and Power Transmission Service Agreement to be effective 7/9/2012.

Filed Date: 5/9/12.

Accession Number: 20120509-5115.

Comments Due: 5 p.m. ET 5/30/12.

Docket Numbers: ER12-1754-000.

Applicants: AmerenEnergy Medina Valley Cogen, LLC.

Description: Notice of Cancellation of AmerenEnergy Medina Valley Cogen, LLC.

Filed Date: 5/9/12.

Accession Number: 20120509-5140.

Comments Due: 5 p.m. ET 5/30/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 10, 2012.
Nathaniel J. Davis, Sr.,
Deputy Secretary.

[FR Doc. 2012-12149 Filed 5-18-12; 8:45 am]

BILLING CODE 6717-01-P